DEPARTMENT OF LABOR

Agency Information Collection Activities; Comment Request; Honoring Investments in Recruiting and Employing American Veterans (HIRE Vets) Medallion Program

AGENCY: Veterans' Employment and Training Service (VETS), United States Department of Labor (DOL).

ACTION: Notice.

SUMMARY: In compliance with the Paperwork Reduction Act of 1995, the DOL is soliciting public comments regarding this VETS-sponsored information collection to the Office of Management and Budget (OMB) for review and approval.

DATES: Comments pertaining to this information collection are due on or before March 19, 2024.

ADDRESSES:

Electronic submission: You may submit comments and attachments electronically at http://www.regulations.gov. Follow the online instructions for submitting comments.

Mail submission: 200 Constitution Ave. NW, Room S-5315, Washington, DC 2020.

Comments are invited on: (1) whether the collection of information is necessary for the proper performance of the functions of the DOL, including whether the information will have practical utility; (2) if the information will be processed and used in a timely manner; (3) the accuracy of the DOL's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Randall Smith by telephone at 202-693-4745 (this is not a toll-free number) or by email at HIREVets@dol.gov.

SUPPLEMENTARY INFORMATION: The HIRE Vets Medallion Program is a voluntary employer recognition program administered by the Department of Labor—Veteran's Employment and Training Service (VETS). Through the HIRE Vets Medallion Program, VETS will solicit voluntary applications from employers for an award called the HIRE Vets Medallion Award. These awards are intended to recognize employer efforts to recruit, employ, and retain our Nation's veterans. All employers who employ at least one employee are eligible to apply for the Award.

This information collection is subject to the Paperwork Reduction Act (PRA). A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

The DOL seeks PRA authorization for this information collection for three (3) years. OMB authorization for an Information Collection Review cannot be for more than three (3) years without renewal. The DOL notes that currently approved information collection requirements submitted to the OMB receive a month-to-month extension while they undergo review.

Agency: DOL-VETS.

Type of Review: Extension without changes.

Title of Collection: HIRE Vets Medallion Program.

OMB Control Number: 1293-0015.

Total Estimated Number of Respondents: 7,236.

Total Estimated Number of Responses: 34,711.

Total Estimated Annual Time Burden: 59,571 hours.

Total Estimated Annual Other Costs Burden: $0.

Authority: 44 U.S.C. 3506(c)(2)(A).

Dated: January 12, 2024.
Julian Purdy,
Deputy Assistant Secretary, Veterans' Employment and Training Service.

[FR Doc. 2024-00937 Filed 1-18-24; 8:45 am]

BILLING CODE 4510-79-P